ENVIRONMENTAL PROTECTION AGENCY

[EPA-HQ-OPP-2012-0344; FRL-9355-1]

Clothianidin; Emergency Petition To Suspend; Notice of Availability

AGENCY: Environmental Protection Agency (EPA).

ACTION: Notice.

SUMMARY: PANNA and others submitted a request for the EPA to immediately suspend Clothianidin and take other actions affecting the registration. The EPA is announcing the decision to deny the suspension request and is inviting the public to comment on the decision and the remainder of the petition.

DATES: Comments must be received on or before September 25, 2012.

ADDRESSES: Submit your comments, identified by docket identification (ID) number EPA-HQ-OPP-2012-0344; FRL-9355-1, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), Mail Code: 28221T, 1200 Pennsylvania Ave. NW., Washington, DC 20460-0001.

• Hand Delivery: To make special arrangements for hand delivery or delivery of boxed information, please follow the instructions at http://www.epa.gov/dockets/contacts.htm.

Additional instructions on commenting or visiting the docket, along with more information about dockets generally, is available at http://www.epa.gov/dockets.

FOR FURTHER INFORMATION CONTACT: Marianne Lewis, Registration Division (7505P), Office of Pesticide Programs, Environmental Protection Agency, 1200 Pennsylvania Ave. NW., Washington, DC 20460-0001; telephone number: (703) 308-8043; fax number: (703) 308-0029; email address: marianne.lewis@epa.gov.

SUPPLEMENTARY INFORMATION:

I. General Information

A. Does this action apply to me?

This action is directed to the public in general, and may be of interest to a wide range of stakeholders including: Environmental groups, farmers, beekeepers, State regulatory partners, other interested Federal agencies; members of the public interested in the sale, distribution, or use of pesticides; and other pesticide registrants and pesticide users.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Background

On March 20, 2012, The Center for Food Safety and International Center for Technology Assessment submitted to the EPA an “Emergency Citizen Petition” on behalf of 27 individuals and non-governmental organizations requesting that the EPA suspend registrations for the insecticide clothianidin for the four following reasons: (1) To cure clothianidin's unlawful conditional registration; (2) to prevent an imminent hazard to pollinating insects and the agricultural interests they support by suspending the registrations and initiating special review and cancellation proceedings; (3) to stop the sale of misbranded clothianidin products; and (4) to address Endangered Species Act consultation obligations for clothianidin. Given the emergency nature of the request and the harm asserted, the EPA has addressed on an expedited basis the request to suspend clothianidin registrations to prevent an imminent hazard. This notice announces the availability of the EPA's petition response on that issue. The EPA will address the remaining three issues in the petition after receiving and considering public comments on the petition. After reviewing the petition and the supporting documentation, the EPA is denying the request to suspend clothianidin registrations based on the assertion that an imminent hazard exists because the petition and supporting documentation reviewed by the EPA do not demonstrate a substantial likelihood of imminent, serious harm that would justify the suspension of this pesticide under the FIFRA standard. The EPA is posting both the petition (including exhibits and supplemental filings) and its response to the imminent hazard claim for 60 days for public comment on its Web site and in the public docket at regulations.gov. After reviewing the public comments on the petition the EPA will respond to the remaining issues in the petition. In addition, the EPA will determine in connection with that review whether the comments received support the reconsideration of this partial response.

List of Subjects

Environmental protection, Agricultural commodities, Pesticides and pest.

Dated: July 17, 2012.
Steven P. Bradbury,
Director, Office of Pesticide Programs.

[FR Doc. 2012-18321 Filed 7-26-12; 8:45 am]

BILLING CODE 6560-50-P